DEPARTMENT OF LABOR

Employment and Training Administration

[SGA/DFA 02-108]

Grants for Small Faith-Based and Community-Based Non-Profit Organizations

AGENCY: Employment and Training Administration (ETA), Labor.

ACTION: Notice of availability of funds and solicitation for grant applications (SGA). This notice contains all of the necessary information and forms needed to apply for grant funding.

SUMMARY: The Employment and Training Administration (ETA), U.S. Department of Labor (DOL) announces the availability of funds to award a grant to “grass-roots” organizations or small faith-based and community-based non-profit organizations with the ability to connect to the nation's workforce development system. The term “grassroots” is defined under the Eligibility Criteria.

This grant award has three important objectives:

• Increase the number of faith-based and community-based organizations serving as committed and active partners in the One-Stop delivery system .

• Expand the access of faith-based and community-based organizations' clients and customers to the services offered by the nation's One-Stops.

• Identify, document, showcase and replicate successful and innovative instances of faith- and community-based involvement in One-Stop delivery system-building.

ETA has identified $500,000 from funds authorized under Section 171 of the Workforce Investment Act for this competition to meet the system-building objectives.

DATES: The closing date for receipt of applications is Monday, May 20, 2002. Application must be received by 4 p.m. (Eastern Standard Time) at the address below: No exceptions to the mailing and hand-delivery conditions set forth in this notice will be granted. Applications that do not meet the conditions set forth in this notice will not be honored. Telefacsimile (FAX) applications will not be honored. Applicants are advised that the Department's receipt of mail has encountered delays because of mail screening procedures at local post offices.

ADDRESSES: Applications must be mailed to the U.S. Department of Labor, Employment and Training Administration, Division of Federal Assistance, Attention: Ms. Linda Forman, SGA/DFA 02-108, 200 Constitution Avenue, NW., Room S-4203, Washington, DC 20210.

Late Proposals. A proposal received at the designated office after the exact time specified for receipt will not be considered unless it is received before the award is made and it:

• Was sent by U.S. Postal Service registered or certified mail not later than the fifth day (5th) calendar day before the closing date specified for receipt of applications (e.g. an offer submitted an response to a solicitation requiring receipt of application by the 20th of the month must be mailed by the 15th):

• Was sent by U.S. Postal Service Express Mail Next Day Service, Post Office to Addressee, not later than 5 p.m. at the place of mailing two working days prior to the deadline date specified for receipt of proposals in this SGA. The term “working days” excludes weekends and U.S. Federal holidays.

The only acceptable evidence to establish the date of mailing of an application received after the deadline date for the receipt of proposals sent by the U.S. Postal Service registered or certified mail is the U.S. postmark on the envelope or wrapper affixed by the U.S. Postal Service and on the original receipt from the U.S. Postal Service. The term “post marked” means a printed, stamped, or otherwise place impression (exclusive of a postage meter machine impression) that is readily identifiable without further action as having been supplied or affixed on the date of mailing by employees of the U.S. Postal Service.

Withdrawal of Applications. Applications may be withdrawn by written notice or telegram (including mailgram) received at any time before an award is made. Application may be withdrawn in person by the applicant or by an authorized representative thereof, if the representative's identify is made known and the representative signs a receipt for the proposal.

FOR FURTHER INFORMATION CONTACT: Questions should be faxed to Linda Forman, Grants Management Specialist, Division of Federal Assistance, Fax (202) 693-3296. This is not a toll-free number. All inquiries should include the SGA 02-108 and a contact name, fax and phone number. This solicitation will be published on the Internet on the Employment and Training Administration's home page at http://www.doleta.gov. Award notifications will also be published on this home page.

SUPPLEMENTARY INFORMATION: Through this grant award, ETA seeks to ensure that an important Workforce Investment Act tenet—universal access to the programs and services offered under WIA—is further rooted in the customer-responsive delivery systems already established by the Governors, local elected officials and local Workforce Investment Boards. Through this grant competition, ETA also reaffirms its continuing commitment to those customer-focused reforms instituted by State and local governments which help Americans access the tools they need to manage their careers through information and high quality services, and to help U.S. companies find skilled workers.

On January 29, 2001, President George W. Bush issued Executive Order 13198, creating the Office for Faith-Based and Community Initiatives in the White House and centers in the departments of Labor, Health and Human Services (HHS), Housing and Urban Development (HUD), Education (ED), Justice (DOJ). President Bush charged the Cabinet centers with identifying statutory, regulatory, and bureaucratic barriers that stand in the way of effective faith-based and community initiatives, and to ensure, consistent with the law, that these organizations have equal opportunity to compete for federal funding and other support.

SGA/DFA 02-108 reflects the outcome of discussions between the Department's Center for Faith-Based and Community-Based Initiatives (CFBCI) and ETA to provide expanded opportunities for the Federal-State-local partnerships under WIA to engage the faith-based and community-based organizations in service delivery, while providing additional points of entry for customers into the One-Stop system. The solicitation also reflects the Administration's interest in creating new avenues through which qualified “grass-roots” organizations can more fully participate under the Workforce Investment Act while bringing their particular strengths and talents in service provision to the customers. A Training and Employment Guidance Letter (TEGL) will be issued in April 2002 to state workforce agencies, worker adjustment liaisons, workforce liaisons, and One-Stop Center system leads. The TEGL will request these principals to commit to a full engagement with faith-based and community-based organizations. The TEGL will encourage local workforce boards to appoint member(s) who are familiar with the FBOs/CBOs that provide job training, soft skills training and employment services in the labor market, and work in conjunction with the state workforce agency's faith-based liaison to share ideas and collect promising practices. The TEGL also will ask the state principals to collaborate with the local workforce investment areas in creating a campaign to educate the appropriate FBOs/CBOs about the workforce investment system, One-Stop Centers, available grants-in-aid, and to invite their participation.

Faith-based and community-based organizations present credentials for full partnership in our mutual system-building endeavors. FBOs/CBOs are often trusted institutions within our poorest neighborhood, serving the very hardest-to-reach constituents in a cost-effective manner. FBOs/CBOs are home to a large number of volunteers who not only bring the transformational power of personal relationships to the provision of social service but a sustained allegiance to the well-being of their participants they serve. Through their daily work and specific programs, FBOs/CBOs strive to achieve some common purposes shared with government—reduction of welfare dependency, attainment of occupational skills, entry and retention of all our citizens in good-paying jobs. With appropriate planning, the FBO/CBO programs and resources can be leveraged into the workforce investment strategies already embodied in State and local strategic plans.

This grant is made under the following authorities:

• The Workforce Investment Act of 1998 (WIA or the Act) (Pub. L. 105-220, 29 U.S.C. 2801 et seq.)

• WIA Final Rule, 20 CFR parts 652, 660-671 (65 FR 49294 (August 11, 2000));

• Interim Final Rule implementing the nondiscrimination and equal opportunity provision (section 188) of WIA, 29 CFR part 37 (64 FR 61692 (November 12, 1999));

• Planning Guidance and Instructions for Submission of the Strategic Five-Year State Plan for title I of the Workforce Investment Act of 1998 and the Wagner-Peyser Act (64 FR 9402 (February 25, 1999))

• Final Unified Plan Planning Guidance (65 FR 2464 (January 14, 2000))

• Executive Order 13198; “Rallying the Armies of Compassion”

• “Report on a Unlevel Playing Field: Barriers to Participation by Faith-Based and Community Organization in Federal Service Programs”

Additional Background Information

The Workforce Investment Act of 1998 (WIA) established a comprehensive reform of existing Federal job training programs with amendments impacting service delivery under the Wagner-Peyser Act, Adult Education and Literacy Act, and the Rehabilitation Act. A number of other Federal programs are also identified as required partners in the One-Stop delivery system to provide comprehensive services for all Americans to access the information and resources available that can help in the achievement of their career goals. The intention of the One-Stop system is to establish a network of programs and providers in co-located and integrated settings that are accessible for individuals and businesses alike in over 600 workforce investment areas established throughout the nation.

One of the principles of WIA is empowerment of local leaders and organizations to respond to community issues and needs. Under WIA, state and local Workforce Investment Boards are required to develop strategies and programs that address the workforce development needs of their communities and develop an awareness of the range of worker education, training and employment, and other services offered throughout the local area.

Under WIA, services are provided to adults/dislocated workers and eligible youth 14-21 years of age. There are three levels of services for adults/dislocated workers—core services, intensive services and training. While these services are provided through the One-stop center, service providers (approved by the local board), including contracts with private non-profits may provide core and intensive services.

Intensive Services include: Assessment of skill levels; development of an individual employment plan; group counseling; individual counseling and career counseling and planning; case management; and short-term prevocational services to prepare individuals for unsubsidized employment or training.

Local boards are required to establish Youth Councils as a sub group. As authorized by the Board Chair, the youth Council is responsible for developing portions of the local plan relating to youth and recommending the providers of youth activities. Most youth services are delivered by entities that are competitively awarded a grant or contract by the local board to provide services. An individual assessment of skill levels and service needs and the development of a youth service strategy are required for each youth participant.

Elements of Youth Programs Include: Tutoring; study skills training and instruction (leading to secondary school completion); summer employment opportunities directly linked to academic and occupational learning; paid and unpaid work experience, occupational skill training; leadership development opportunities; adult mentoring; comprehensive guidance and counseling including career counseling; and follow-up services. Further information on WIA is published at www.usworkforce.org.

The provided services under this grant would supplement the services that local One-Stop delivery systems currently provide. The recipient organizations receiving grant funds will partner with the local Workforce Investment Boards and One-Stop operators to carry out various services of direct benefit to customers. The organization would offer, for example, “soft-skills” training such as communications, problem-solving, and time management which will allow the individual to function in a new work environment. Other activities can include GED tutoring of at-risk youth, after school programs for youth, day care for elders, job loss counseling, language translation services, “community audits” (a resource guide to support services within the community), and “cultural sensitivity” training programs.

Funding Availability

A total of $500,000 is reserved for small private non-profit or “grassroots” organizations to provide authorized services to WIA participants. ETA expects to award approximately 20 to 25 grants under this competition. Each grant award will range from $20,000 to $25,000 based on the proposal.

Period of Performance

The period of performance is one year.

Application Guidelines

Eligible Applicants

DOL will consider a “grassroots” or small faith-based and community-based non-profit organizations if:

(a) The organization is headquartered in the local community to which it provides services; and,

(i) Has a social services budget of $300,000 or less, or

(ii) Has 6 or fewer full-time equivalent employees.

(b) Local affiliates of national organizations are not considered “grassroots.”

(c) The $300,000 or less budget includes only that portion of an organization's budget allocated to providing social services. It does not include other portions of the budget such as salaries and expenses.

Note: Except as specifically provided, DOL/ETA acceptance of a proposal and an award of federal funds to sponsor any program(s) does not provide a waiver of any grant requirement and/or procedures. For example, the OMB circulars require that an entity's procurement transaction must be conducted, as practical, to provide open and free competition. If a proposal identifies a specific entity to provide the services, the DOL/ETA's award does not provide the justification or basis to sole-source the procurement, i.e., avoid competition.

Application Process

The application must clearly identify the applicant (or the fiscal agent), the grant recipient (and/or fiscal agent), and its capacity to administer this project. Applicants must submit one copy with an original signature and two additional copies of their proposal. The proposal must include the Application for Federal Assistance (SF 424A), signed by an authorized representative of the organization to enter into grant agreement.

This application must be double-spaced, and on single-sided, numbered pages. There are four required sections:

Section I—Application for Federal Assistance (SF 424A);

Section II—Executive Summary;

Section III—Statement of Work;

Section IV—Budget Information (SF 424B).

Note: ETA will not consider applications that fail to provide complete information in these four sections.

Format Requirements

• A “page” is 8.5″ x 11″ (on one side only) with one-inch margins (top, bottom, and sides).

• Double-space (no more than three lines per vertical inch).

• If using a proportional computer font, use no smaller than 12-point font, and an average character density no greater than 10 characters per inch.

Section I—Application for Federal Assistance—See (SF-424A) Form included in the announcement (See APPENDIX “A”).

Section II—Executive Summary (not to exceed 2 single-spaced pages)

Each applicant must submit an Executive Summary identifying the following:

• The applicant's capacity to administer this project (including affiliate organizations that will be part of the grant.

• The geographic area to be served through this grant (e.g. identifiable subset of local workforce investment areas within the state).

• The amount of funding requested and planned period of performance up to one year.

• Applicant must ensure that applicant and constituent organizations will cooperate and coordinate with all entities receiving funding under the Workforce Investment Act.

• Timeline for project activities to be undertaken in the Statement of Work.

Section III—Statement of Work (not to exceed 3-5 double-spaced pages)

The Statement of Work sets forth a strategic plan for the use of awarded funds, establishes measurable goals for increasing “organizational” participation in the One-Stop service delivery system to more fully serve the clientele and members of community-based and faith-based organizations. Statement of Work should address plans for providing soft-skill training and core and intensive services as described in the announcement. This may include any appropriate mix of services for adults/dislocated workers and/or youth. The narrative will be evaluated in accordance with the guidance under “Review Process and Evaluation Criteria” in this announcement. The following should be incorporated in the Statement of Work:

• Describe the population to be served.

• Describe the services and/or soft-skills training to be provided.

• Describe current and/or proposed involvement with local Workforce Investment Boards and One-Stop Centers.

• Describe any relevant history in managing resources through grant awards from Federal, State or units of local governments, and/or from private organizations.

• Describe objectives, how project results will be measured, and who will be responsible for providing DOL financial and quarterly information.

Section IV—Budget Information—(See APPENDIX “B”)

Note: Administrative Costs: Pursuant to 20 CFR 667.210(b), grantees are advised that there is a 10% limitation on administrative costs on funds administered under this grant. The Grant Officer may, however, approve additional administrative costs, up to a maximum of 15% of the total award amount, for that grantee providing adequate justification. In no event, may administrative costs exceed 15% of the total award amount. The cost of administration shall include those disciplines enumerated in 20 CFR 667.220(b) and (c).

Review Process and Evaluation Criteria

ETA, CFBCI and other Federal agency staff are expected to serve on the technical panel(s) that will review all applications against the criteria listed below. The panel recommendations are advisory. The ETA grant officer will fully consider the panel recommendations but take into account geographical balance and other factors to ensure the most advantageous award of these funds to accomplish the system-building purposes outlined in the Summary and Statement of Work. The grant officer may consider any information that comes to his or her attention The grant officer reserves the right to award without further negotiation. Each application will be evaluated against the following rating criteria.

Performance History With Grants Management (10 points)

The applicant must provide a statement of its performance history with managing resources under governmental grants-in-aid programs. The Department will be evaluating applications based on scope, strength, and record of achievement. Applicant may provide a recent history of any involvement as a partner or provider in the Workforce Development system.

Strategic Plan (25 points)

The applicant must describe how it plans to use the investments and activities under this grant to prepare individuals for career opportunities and the skills needed by employers. The applicant must clearly describe how unmet customer workforce needs will be accomplished and illustrate its ability to help bridge those needs.

“Organizational” Involvement of the One-Stop Service Delivery System (40 points)

The applicant must describe thoroughly plans to work as partners with the One-Stop Service Delivery system to provide clients with the needed skills and training in preparation for entering the workforce. The applicant should include plans to brief One-Stop centers in the local area about the purpose of this grant and the CFBCI/ETA faith- and community-based initiative. Applicant should include ideas for further strengthening these CBO and FBO relationships with the One-Stop delivery system.

Performance Accountability (25 points)

The applicant must describe the methodology for measuring success of this project. The objectives must be clearly defined and the applicant must describe how it will report the number of participants served, (a) how many received employment, (b) training and/or services, (c) number of applicants that were referred to local One-Stop center after receiving soft skills training. The applicant should describe how customers and the staff who serve them are provided with opportunities for suitable access to One-Stop Career Centers, neighborhood centers, and on-line web-based applications that provide valuable information on services, training, jobs, career and local labor market information.

Reporting Requirement

DOL must receive a quarterly report that addresses scope of work, progress under grant, and financial reporting. Further, a final report is required that summarizes progress, and accomplished objectives, and final financial report that includes expenditures.

Signed in Washington, DC, this 10th day of April 2002.
James W. Stockton,
Grant Officer.

APPENDIX A: (SF) 424—Application Form

APPENDIX B: Budget Information Form

BILLING CODE 4510-30-P

[FR Doc. 02-9259 Filed 4-16-02; 8:45 am]

BILLING CODE 4510-30-C